SECURITIES AND EXCHANGE COMMISSION

[File No. 500-1]

In the Matter of: Health Professionals, Inc., Respondent; Order of Suspension of Trading

May 5, 2008.

It appears to the Securities and Exchange Commission that there is a lack of current and accurate information concerning the securities of Health Professionals, Inc. because it has not filed any periodic reports since it filed a Form 10-Q for the period ended December 31, 1997.

The Commission is of the opinion that the public interest and the protection of investors require a suspension of trading in the securities of the above-listed company.

Therefore, it is ordered, pursuant to section 12(k) of the Securities Exchange Act of 1934, that trading in the securities of Health Professionals, Inc. is suspended for the period from 9:30 a.m. EDT on May 5, 2008 through 11:59 p.m. EDT on May 16, 2008.

By the Commission.
J. Lynn Taylor,
Assistant Secretary.

[FR Doc. 08-1235 Filed 5-5-08; 11:37am]

BILLING CODE 8010-01-P